DEPARTMENT OF HEALTH AND HUMAN SERVICES

Centers for Disease Control and Prevention

Publication of Closed Meeting Summary of the Advisory Board on Radiation and Worker Health (ABRWH), National Institute for Occupational Safety and Health (NIOSH)

Committee Purpose: This board is charged with (a) providing advice to the Secretary, HHS, on the development of guidelines under Executive Order 13179; (b) providing advice to the Secretary, HHS, on the scientific validity and quality of dose reconstruction efforts performed for this Program; and (c) upon request by the Secretary, HHS, advise the Secretary on whether there is a class of employees at any Department of Energy facility who were exposed to radiation but for whom it is not feasible to estimate their radiation dose, and on whether there is reasonable likelihood that such radiation doses may have endangered the health of members of this class.

Background: The Advisory Board on Radiation and Worker Health met on June 3, 2004, in closed session to discuss the Proposed Independent Government Cost Estimate (IGCE) for the Board's Task Order contract and a submitted proposal of work. This contract, once awarded, will provide technical support to assist the Board in fulfilling its statutory duty to advise the Secretary, HHS, regarding the dose reconstruction efforts under the Energy Employees Occupational Illness Compensation Program Act. A Determination to Close the meeting was approved and published, as required by the Federal Advisory Committee Act.

Summary of the Meeting: Attendance was as follows:

Board Members:

Paul L. Ziemer, PhD, Chair;

Larry J. Elliott, Executive Secretary;

Antonio Andrade, PhD, Member;

Roy L. DeHart, M.D., M.P.H., Member;

Richard L. Espinosa, Member;

Michael H. Gibson, Member;

Mark A. Griffon, Member;

James M. Melius, M.D., Dr.P.H., Member;

Wanda I. Munn, Member;

Robert W. Presley, Member;

Genevieve S. Roessler, PhD, Member;

NIOSH Staff:

Cori Homer, Liz Homoki-Titus, and Jim Neton;

Ray S. Green, Court Recorder.

Summary/Minutes

Dr. Ziemer called to order the ABRWH in closed session on June 3, 2004, at 1:30 p.m. The purpose of the closed meeting was to discuss the Proposed IGCE for the Board's Task Order contract and a submitted proposal of work.

General topics discussed:

• Closed session procedures.

• IGCE for task proposals of the task order contract.

Dr. Paul Ziemer adjourned the closed session of the ABRWH meeting at 1:40 p.m. with no further business being conducted by the ABRWH.

FOR FURTHER INFORMATION CONTACT: Larry Elliott, Executive Secretary, ABRWH, NIOSH, CDC, 4676 Columbia Parkway, Cincinnati, Ohio 45226, telephone 513/533-6825, fax 513/533-6826.

The Director, Management Analysis and Services Office, has been delegated the authority to sign Federal Register notices pertaining to announcements of meetings and other committee management activities for both the Centers for Disease Control and Prevention and the Agency for Toxic Substances and Disease Registry.

Dated: June 17, 2004.
Alvin Hall,
Director, Management Analysis and Services Office, Centers for Disease Control and Prevention.

[FR Doc. 04-14470 Filed 6-24-04; 8:45 am]

BILLING CODE 4163-19-P